DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, October 6, 2004, 6 p.m. to October 7, 2004, 5 p.m., Hyatt Regency Bethesda, One Bethesda Metro Center, 7400 Wisconsin Avenue, Bethesda, MD, 20814 which was published in the Federal Register on August 26, 2004, 69 FR 19544.

The meeting will be held October 24-25, 2004 from 6 p.m. until 5 p.m. The meeting is closed to the public.

Dated: September 1, 2004.
LaVerne Y. Stringfield,
Director, Office of Federal Advisory Committee Policy.

[FR Doc. 04-20437 Filed 9-8-04; 8:45 am]

BILLING CODE 4140-01-M